DEPARTMENT OF ENERGY

Federal Energy Regulatory Commission

[Docket No. CP06-28-000]

Southern Natural Gas Company; Notice of Application

December 1, 2005.

Take notice that on November 23, 2005, Southern Natural Gas Company (Southern), 1900 Fifth Avenue North, Birmingham, Alabama 35203, filed in Docket No. CP06-28-000, an application pursuant to section 7(b) of the Natural Gas Act and Part 157 of the regulations of the Federal Energy Regulatory Commission, for an order authorizing Southern to abandon approximately 6.86 miles of its 18-inch North Main Loop Line in Sharkey County, Mississippi. Southern states that abandonment of this Onward North Main Loop Line segment will not affect its ability to serve its firm transportation customers. Southern also requested that the Commission grant the requested authorization by March 31, 2006, all as more fully set forth in the application which is on file with the Commission and open to public inspection. This filing may be also viewed on the Web at http://www.ferc.gov using the “eLibrary” link. Enter the docket number excluding the last three digits in the docket number field to access the document. For assistance, call (866) 208-3676 or TTY, (202) 502-8659.

Any questions regarding this application may be directed to: Patrick B. Pope, Vice President and General Counsel, Southern Natural Gas Company, PO Box 2563, Birmingham, AL 35202-2563, phone (205) 325-7126; or Patricia S. Francis, Senior Counsel, Southern Natural Gas Company, PO Box 2563, Birmingham, AL 35202-2563, phone (205) 325-7696.

There are two ways to become involved in the Commission's review of this project. First, any person wishing to obtain legal status by becoming a party to the proceedings for this project should, before the comment date of this notice, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's Web site under the “e-Filing” link.

Comment Date: December 23, 2005.
Magalie R. Salas,
Secretary.

[FR Doc. E5-7091 Filed 12-8-05; 8:45 am]

BILLING CODE 6717-01-P